DEPARTMENT OF LABOR

Employment and Training Administration

[TA-W-61,899]

Ortronics, Incorporated, a Subsidiary of Legrand, including On-Site Leased Workers of Defender Services, Staffmasters USA and Holland Employment Group, Dallas, NC; Amended Certification Regarding Eligibility to Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on August 13, 2007, applicable to workers of Ortronics, Incorporated, a subsidiary of Legrand, including on-site leased workers from Defender Services, Dallas, Texas. The notice was published in the Federal Register on August 30, 2007 (72 FR 50126).

At the request of the State agency, the Department reviewed the certification for workers of the subject firm. The workers are engaged in the production of structured cabling and fiber optic products.

New information shows that leased workers of Staffmaster USA and Holland Employment Group were employed on-site at the Dallas, North Carolina location of Orthronics, Incorporated, a subsidiary of Legrand. The Department has determined that the Staffmaster USA and Holland Employment Group workers were sufficiently under the control of Ortronics, Incorporated to be considered leased workers.

Based on these findings, the Department is amending this certification to include leased workers of Staffmaster USA and Holland Employment Group working on-site at the Dallas, North Carolina location of the subject firm.

The intent of the Department's certification is to include all workers employed at Ortronics, Incorporated, a subsidiary of Legrand, Dallas, North Carolina who were adversely affected by a shift in production to Mexico.

The amended notice applicable to TA-W-61,899 is hereby issued as follows:

“All workers of Ortronics, Incorporated, a subsidiary of Legrand, including on-site leased workers of Defender Services, Staffmasters USA, and Holland Employment Group, Dallas, North Carolina, who became totally or partially separated from employment on or after July 27, 2006, through August 13, 2009, are eligible to apply for adjustment assistance under Section 223 of the Trade Act of 1974, and are also eligible to apply for alternative trade adjustment assistance under Section 246 of the Trade Act of 1974.”

Signed at Washington, DC, this 6th day of September 2007.
Linda G. Poole,
Certifying Officer, Division of Trade Adjustment Assistance.

[FR Doc. E7-18618 Filed 9-20-07; 8:45 am]

BILLING CODE 4510-FN-P